FARM CREDIT ADMINISTRATION

12 CFR Part 628

RIN 3052-AD42

Risk Weighting of High Volatility Commercial Real Estate (HVCRE) Exposures

AGENCY: Farm Credit Administration.

ACTION: Proposed rule; extension of comment period.

SUMMARY: The Farm Credit Administration (FCA or we) is extending the comment period on its proposed rule that would revise the regulatory capital requirements for Farm Credit System (FCS or System) institutions to define and establish a risk-weight for high volatility commercial real estate (HVCRE) exposures. FCA is extending the comment period for an additional 61 days, until January 24, 2022, so interested parties will have additional time to provide comments on the proposed rule.

DATES: The comment period for the proposed rule published on August 26, 2021 (86 FR 47601) is extended from November 24, 2021, to January 24, 2022.

ADDRESSES: For accuracy and efficiency reasons, please submit comments by email or through FCA's website. We do not accept comments submitted by facsimiles (fax), as faxes are difficult for us to process and achieve compliance with section 508 of the Rehabilitation Act of 1973. Please do not submit your comment multiple times via different methods. You may submit comments by any of the following methods:

• Email: Send us an email at reg-comm@fca.gov.

• FCA website: http://www.fca.gov. Click inside the “I want to . . .” field near the top of the page; select “comment on a pending regulation” from the dropdown menu; and click “Go.” This takes you to an electronic public comment form.

• Mail: Kevin J. Kramp, Director, Office of Regulatory Policy, Farm Credit Administration, 1501 Farm Credit Drive, McLean, VA 22102-5090.

You may review copies of comments we receive on our website at http://www.fca.gov. Once you are on the website, click inside the “I want to . . .” field near the top of the page; select “find comments on a pending regulation” from the dropdown menu; and click “Go.” This will take you to the Comment Letters page where you can select the regulation for which you would like to read the public comments.

We will show your comments as submitted, including any supporting data provided, but for technical reasons we may omit items such as logos and special characters. Identifying information that you provide, such as phone numbers and addresses, will be publicly available. However, we will attempt to remove email addresses to help reduce internet spam. You may also review comments at our office in McLean, Virginia. Please call us at (703) 883-4056 or email us at reg-comm@fca.gov to make an appointment.

FOR FURTHER INFORMATION CONTACT:

Technical information: Ryan Leist, LeistR@fca.gov, Senior Accountant, or Jeremy R. Edelstein, EdelsteinJ@fca.gov, Associate Director, Finance and Capital Markets Team, Office of Regulatory Policy, Farm Credit Administration, McLean, VA 22102-5090, (703) 883-4414, TTY (703) 883-4056, or ORPMailbox@fca.gov; or Legal information: Jennifer A. Cohn, CohnJ@fca.gov, Assistant General Counsel, Office of General Counsel, Farm Credit Administration, McLean, VA 22102-5090, (720) 213-0440, TTY (703) 883-4056.

SUPPLEMENTARY INFORMATION: On August 26, 2021, FCA published a proposed rule in the Federal Register that would update FCA's regulatory capital requirements to reflect the increased risks that exposures to certain acquisition, development or construction loans pose to System institutions. The proposed rule would also ensure that the System's capital requirements are comparable to the Basel III framework and the standardized approach the Federal banking regulatory agencies have adopted, with deviations as appropriate to accommodate the different operational and credit considerations of the System.

The comment period is currently scheduled to close on November 24, 2021. See 86 FR 47601. FCA is extending the comment period for an additional 61 days, until January 24, 2022, so interested parties will have additional time to provide comments on the proposed rule in consideration of other rulemakings that are also open for public comment.

Dated: October 15, 2021.
Dale Aultman,
Secretary, Farm Credit Administration Board.

[FR Doc. 2021-22826 Filed 10-19-21; 8:45 am]

BILLING CODE 6705-01-P